DEPARTMENT OF COMMERCE

International Trade Administration

(A-427-816, A-533-817, A-560-805, A-475-826, A-588-847, A-580-836)

Certain Cut-To-Length Carbon-Quality Steel Plate from France, India, Indonesia, Italy, Japan, and the Republic of Korea; Final Results of the Expedited Sunset Reviews of the Antidumping Duty Orders

AGENCY: Import Administration, International Trade Administration, Department of Commerce.

SUMMARY: On January 3, 2005, the Department of Commerce (“the Department”) initiated sunset reviews of the antidumping duty orders (“AD Orders”) on Certain Cut-To-Length Carbon-Quality Steel Plate (“CTL Plate”) from France, India, Indonesia, Italy, Japan, and the Republic of Korea pursuant to section 751(c) of the Tariff Act of 1930, as amended (“the Act”). See Initiation of Five-year (Sunset) Reviews, 70 FR 75 (January 3, 2005). On the basis of notices of intent to participate and adequate substantive responses filed on behalf of the domestic interested parties and inadequate responses from respondent interested parties, the Department conducted expedited sunset reviews of the AD Orders pursuant to section 751(c)(3)(B) of the Act and section 351.218(e)(1)(ii)(C)(2) of the Department's regulations. As a result of these sunset reviews, the Department finds that revocation of the AD Orders would likely lead to continuation or recurrence of dumping at the levels indicated in the “Final Results of Reviews,” section of this notice.

EFFECTIVE DATE: August 8, 2005.

FOR FURTHER INFORMATION CONTACT: Roberto Facundus or David Goldberger, AD/CVD Operations, Import Administration, International Trade Administration, U.S. Department of Commerce, 14th Street and Constitution Avenue, NW, Washington, DC 20230; telephone: (202) 482-3464 or (202) 482-4136, respectively.

SUPPLEMENTARY INFORMATION:

Background

On January 3, 2005, the Department initiated sunset reviews of the AD Orders on CTL Plate from France, India, Indonesia, Italy, Japan, and the Republic of Korea pursuant to section 751(c) of the Act. See Initiation of Five-year (Sunset) Reviews, 70 FR 75 (January 3, 2005). The Department received notices of intent to participate from the following domestic parties within the deadline specified in 19 CFR 351.218(d)(1)(i): Mittal Steel USA ISG Inc.¹, IPSCO Steel Inc., Nucor Corporation, and United States Steel Corp. These four parties claimed interested party status under section 771(9)(C) of the Act and 19 CFR 351.102(b), as domestic manufacturers and producers of the domestic like product. The Department received a collective substantive response from Mittal Steel USA ISG Inc., IPSCO Steel Inc., and Nucor Corporation (collectively “the domestic interested parties”) within the 30-day deadline specified in 19 CFR 351.218(d)(3)(i). The Department received no substantive responses from any of the respondent interested parties to these proceedings.² As a result, pursuant to section 751(c)(3)(B) of the Act and 19 CFR 351.218(e)(1)(ii)(C)(2), the Department conducted expedited sunset reviews of these AD Orders.

¹ Bethlehem Steel Corporation was one of the original petitioners in the investigation. International Steel Group Inc. was the successor company to Bethlehem Steel Corporation. See Letters from Nucor Corporation, International Steel Group Inc. (Mittal Steel USA ISG Inc.), and IPSCO Steel Inc. to the Secretary of Commerce re: Five-year ( sunset“) review(s) pursuant to Section 751(c) of the Tariff Act of 1930 of the Antidumping Duty Order(s) on Cut-to-Length Carbon-Quality Steel Plate from France, India, Indonesia, Italy, Japan, and the Republic of Korea - Substantive Response(s) to Notice of Initiation (February 1, 2005) (separate letters were simultaneously submitted for each country). International Steel Group Inc. was later acquired and its name changed to Mittal Steel USA ISG Inc. See Letters from Mittal Steel USA ISG Inc. to the Secretary of Commerce re: Sunset Review(s) of Certain Cut-To-Length Carbon-Quality Steel Plate from France, India, Indonesia, Italy, Japan, and the Republic of Korea: Notice of Change in International Steel Group Inc.'s Name (April 20, 2005) (separate letters were simultaneously submitted for each country), and Letters from Mittal Steel USA ISG Inc. to the Secretary of Commerce re: Antidumping Duty Sunset Review(s) of Certain Cut-To-Length Carbon-Quality Steel Plate from France, India, Indonesia, Italy, Japan, and the Republic of Korea: Clarification of Mittal Steel USA ISG's name (May 6, 2005) (separate letters were simultaneously submitted for each country).

² GTS Industries S.A., a French producer of subject merchandise, submitted a waiver of participation in the sunset review of CTL Plate from France. See Letter to Gary S. Taverman re: Antidumping Duty Sunset Review of Certain Cut-to-Length Carbon-Quality Steel Plate from France; Statement of Waiver (February 2, 2005).

On May 3, 2005, the Department extended the time limit for the final results of these sunset reviews to on or about August 1, 2005. See Certain Cut-To-Length Carbon-Quality Steel Plate from France, India, Indonesia, Italy, Japan and Korea; Extension of Final Results of Expedited Sunset Reviews of the Antidumping and Countervailing Duty Orders, 70 FR 22843 (May 3, 2005).

Scope of the Orders

The products covered by the AD Orders are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of these orders are of rectangular, square, circular or other shape and of rectangular or non-rectangular cross-section where such non-rectangular cross-section is achieved subsequent to the rolling process (i.e., products which have been “worked after rolling”)--for example, products which have been beveled or rounded at the edges. Steel products that meet the noted physical characteristics that are painted, varnished or coated with plastic or other non-metallic substances are included within this scope. Also, specifically included in the scope of these orders are high strength, low alloy (“HSLA”) steels. HSLA steels are recognized as steels with micro-alloying levels of elements such as chromium, copper, niobium, titanium, vanadium, and molybdenum.

Steel products to be included in this scope, regardless of Harmonized Tariff Schedule of the United States (“HTSUS”) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of these orders unless otherwise specifically excluded. The following products are specifically excluded from these orders: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

Regarding the scope of the order for Japan, the following additional exclusions apply with respect to abrasion-resistant steels: NK-EH-360 (NK Everhard 360) and NK-EH-500 (NK Everhard 500). NK-EH-360 has the following specifications: (a) Physical Properties: Thickness ranging from 6-50 mm, Brinell Hardness: 361 min.; (b) Heat Treatment: controlled heat treatment; and (c) Chemical Composition (percent weight): C: 0.20 max., Si: 0.55 max., Mn: 1.60 max., P: 0.030 max., S: 0.030 max., Cr: 0.40 max., Ti: 0.005-0.020, B: 0.004 max. NK-EH-500 has the following specifications: (a) Physical Properties: Thickness ranging from 6-50 mm, Brinell Hardness: 477 min.; (b) Heat Treatment: Controlled heat treatment; and (c) Chemical Composition (percent weight): C: 0.35 max., Si: 0.55 max., Mn: 1.60 max., P: 0.030 max., S: 0.030 max., Cr: 0.80 max., Ti: 0.005-0.020, B: 0.004 max.

The merchandise subject to these orders is currently classifiable in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000. Although the HTSUS subheadings are provided for convenience and customs purposes, the written description of the merchandise covered by these orders is dispositive.

Analysis of Comments Received

All issues raised in these reviews are addressed in the Issues and Decision Memorandum from Barbara E. Tillman, Acting Deputy Assistant Secretary for Import Administration, to Joseph A. Spetrini, Acting Assistant Secretary for Import Administration, dated August 1, 2005. (“Decision Memorandum”), which is hereby adopted by this notice. The issues discussed in the accompanying Decision Memorandum include the likelihood of continuation or recurrence of dumping and the magnitude of the margin likely to prevail if the orders were revoked. Parties can find a complete discussion of all issues raised in these reviews and the corresponding recommendations in this public memorandum which is on file in the Central Records Unit, room B-099, of the main Commerce building. In addition, a complete version of the Decision Memorandum can be accessed directly on the Web at http://ia.ita.doc.gov/frn, under the heading “August 2005.” The paper copy and electronic version of the Decision Memorandum are identical in content.

Final Results of Sunset Reviews

The Department determines that revocation of the AD Orders on CTL Plate from France, India, Indonesia, Italy, Japan, and the Republic of Korea would likely lead to continuation or recurrence of dumping at the rates listed below:

Exporter/Manufacturer | Margin Percentage
France
Usinor, S.A. | 10.41
All Others | 10.41
India
Steel Authority of India, Ltd. | 42.39
All Others | 42.39
Indonesia
PT Gunawan Dianjaya/PT Jaya Pari Steel Corporation | 50.80
PT Krakatau Steel | 52.42
All Others | 50.80
Italy
Palini and Bertoli S.p.A | 7.85
All Others | 7.85
Japan
Kawasaki Steel Corporation | 10.78
Kobe Steel, Ltd. | 59.12
Nippon Steel Corporation | 59.12
NKK Corporation | 59.12
Sumitomo Metal Industries, Ltd. | 59.12
All Others | 10.78
Republic of Korea
Dongkuk Steel Mill Co., Ltd. | 2.98
All Others | 2.98

Notification regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752, and 777(i)(1) of the Act.

Dated: August 1, 2005.
Joseph A. Spetrini,
Acting Assistant Secretary for Import Administration.

[FR Doc. E5-4249 Filed 8-5-05; 8:45 am]

BILLING CODE 3510-DS-S